DEPARTMENT OF HEALTH AND HUMAN SERVICES

Indian Health Service

Notice of Proposed Purchased/Referred Care Delivery Area Redesignation for the Shoshone-Bannock Tribes

AGENCY: Indian Health Service, HHS.

ACTION: Notice.

SUMMARY: This Notice advises the public that the Indian Health Service (IHS) proposes to expand the geographic boundaries of the Purchased/Referred Care Delivery Area (PRCDA) for the Shoshone-Bannock Tribes of the Fort Hall Indian Reservation in Idaho to include the Idaho counties of Ada, Bear Lake, Blaine, Bonneville, Butte, Canyon, Cassia, Custer, Elmore, Franklin, Fremont, Gem, Gooding, Jefferson, Jerome, Madison, Minidoka, Oneida, Payette, Teton, Twin Falls, and Washington. The current PRCDA for the Shoshone-Bannock Tribes includes the Idaho counties of Bannock, Bingham, Caribou, Lemhi, and Power. Shoshone-Bannock Tribal members who reside outside of the PRCDA are eligible for direct care services; however, they are not eligible for Purchased/Referred Care (PRC) services. The sole purpose of this expansion would be to authorize additional Shoshone-Bannock Tribal members and beneficiaries to receive PRC services.

DATES: Comments must be submitted by January 15, 2025.

ADDRESSES: Because of staff and resource limitations, we cannot accept comments by facsimile (FAX) transmission. You may submit comments in one of four ways (please choose only one of the ways listed):

1. Electronically. You may submit electronic comments on this regulation to https://www.regulations.gov. Follow the “Submit a Comment” instructions.

2. By regular mail. You may mail written comments to the following address ONLY: Carl Mitchell, Director, Division of Regulatory and Policy Coordination, Indian Health Service, 5600 Fishers Lane, Mail Stop: 09E70, Rockville, Maryland 20857.

Please allow sufficient time for mailed comments to be received before the close of the comment period.

3. By express or overnight mail. You may send written comments to the above address.

4. By hand or courier. If you prefer, you may deliver (by hand or courier) your written comments before the close of the comment period to the address above.

If you intend to deliver your comments to the Rockville address, please call telephone number (301) 443-1116 in advance to schedule your arrival with a staff member.

FOR FURTHER INFORMATION CONTACT: CAPT John Rael, Director, Office of Resource Access and Partnerships, Indian Health Service, 5600 Fishers Lane, Mail Stop: 10E85C, Rockville, Maryland 20857. Telephone (301) 443-0969 (This is not a toll-free number).

SUPPLEMENTARY INFORMATION:

Inspection of Public Comments: All comments received before the close of the comment period are available for viewing by the public, including any personally identifiable or confidential business information that is included in a comment.

Background: The IHS provides services under regulations in effect as of September 15, 1987, and republished at 42 CFR part 136, subparts A-C. Subpart C defines a Contract Health Service Delivery Area (CHSDA), now referred to as a PRCDA, as the geographic area within which PRC will be made available by the IHS to members of an identified Indian community who reside in the PRCDA. Residence within a PRCDA by a person who is within the scope of the Indian health program, as set forth in 42 CFR 136.12, creates no legal entitlement to PRC services but only potential eligibility for services. Services needed, but not available at an IHS/Tribal facility, are provided under the PRC program depending on the availability of funds, the relative medical priority of the services to be provided, and the actual availability and accessibility of alternate resources in accordance with the regulations.

The regulations at 42 CFR part 136, subpart C provide that, unless otherwise designated, a PRCDA shall consist of a county which includes all or part of a reservation and any county or counties which have a common boundary with the reservation. 42 CFR 136.22(a)(6). The regulations also provide that after consultation with the Tribal governing body or bodies on those reservations included within the PRCDA, the Secretary may, from time to time, redesignate areas within the United States for inclusion in or exclusion from a PRCDA. 42 CFR 136.22(b). The regulations require that certain criteria be considered before any redesignation is made. The criteria are as follows:

(1) The number of Indians residing in the area proposed to be so included or excluded;

(2) Whether the Tribal governing body has determined that Indians residing in the area near the reservation are socially and economically affiliated with the Tribe;

(3) The geographic proximity to the reservation of the area whose inclusion or exclusion is being considered; and

(4) The level of funding which would be available for the provision of PRC. Additionally, the regulations require that any redesignation of a PRCDA be made in accordance with the procedures of the Administrative Procedure Act (5 U.S.C. 553). 42 CFR 136.22(c). In compliance with this requirement, the IHS is publishing this Notice and requesting public comments.

The Shoshone-Bannock Tribes of the Fort Hall Indian Reservation is located in Fort Hall, Idaho, and operates their PRC program under an Indian Self-Determination and Education Assistance Act (ISDEAA) agreement with the IHS. The IHS and the Shoshone-Bannock Tribes estimate that approximately 323 Tribal members reside in Ada, Bear Lake, Blaine, Bonneville, Butte, Canyon, Cassia, Custer, Elmore, Franklin, Fremont, Gem, Gooding, Jefferson, Jerome, Madison, Minidoka, Oneida, Payette, Teton, Twin Falls, and Washington Counties of Idaho and would become PRC eligible through the proposed redesignation and expansion of the Tribes' PRCDA. The Shoshone-Bannock Tribes states that the Tribal members who reside in the proposed expansion counties are socially and economically affiliated with the Tribe, and that the Tribe would like to recognize these persons as eligible for PRC services. Accordingly, the IHS proposes to expand the PRCDA of the Shoshone-Bannock Tribes to include the counties of Ada, Bear Lake, Blaine, Bonneville, Butte, Canyon, Cassia, Custer, Elmore, Franklin, Fremont, Gem, Gooding, Jefferson, Jerome, Madison, Minidoka, Oneida, Payette, Teton, Twin Falls, and Washington in the State of Idaho. The proposed, expanded PRCDA would not create an overlap with any other existing PRCDA.

Under 42 CFR 136.23, those otherwise eligible Indians who do not reside on a reservation, but reside within a PRCDA, must be either members of the Tribe or other IHS beneficiaries who maintain close economic and social ties with the Tribe. In this case, applying the aforementioned PRCDA redesignation criteria required by operative regulations codified at 42 CFR part 136, subpart C, the following findings are made:

1. By expanding the Shoshone-Bannock Tribes' PRCDA to include Ada, Bear Lake, Blaine, Bonneville, Butte, Canyon, Cassia, Custer, Elmore, Franklin, Fremont, Gem, Gooding, Jefferson, Jerome, Madison, Minidoka, Oneida, Payette, Teton, Twin Falls, and Washington Counties of Idaho, the Shoshone-Bannock Tribes' PRC-eligible population will increase by an estimated 323 Tribal members.

2. The IHS finds that the Tribal members within the proposed, expanded PRCDA are socially and economically affiliated with the Shoshone-Bannock Tribes, based on a statement from the Shoshone-Bannock Tribes that Tribal members who reside in Idaho and receive direct care services from Tribal and Federal health programs located on the Tribes' reservation retain social and economic ties to the Tribes.

3. The expanded PRCDA counties form a contiguous area with the existing PRCDA, and members of the Shoshone-Bannock Tribes reside in each of the counties proposed for inclusion in the expanded PRCDA. Additionally, as noted above, Tribal members who reside in these counties seek direct care services from programs located on the Tribes' reservation. For these reasons, the IHS has determined the additional counties proposed for inclusion herein to be geographically proximate, meaning “on or near,” to the Tribes' reservation.

4. The governing body of the Shoshone-Bannock Tribes has indicated that the PRC program can continue providing the same level of care to the PRC-eligible population if the PRCDA is expanded as proposed, without requiring additional funding or reduction of the current medical priority level.

This Notice does not contain reporting or recordkeeping requirements subject to prior approval by the Office of Management and Budget under the Paperwork Reduction Act of 1980.

Roselyn Tso,
Director, Indian Health Service.

[FR Doc. 2024-29506 Filed 12-13-24; 8:45 am]

BILLING CODE 4166-14-P